DEPARTMENT OF COMMERCE

International Trade Administration

[A-533-889]

Certain Quartz Surface Products From India: Preliminary Results of Antidumping Duty Administrative Review and Partial Rescission of Antidumping Duty Administrative Review; 2019-2021

AGENCY: Enforcement and Compliance, International Trade Administration, Department of Commerce.

SUMMARY: The U.S. Department of Commerce (Commerce) preliminarily determines that Pokarna Engineered Stone Limited (PESL) did not make sales of subject merchandise at less than normal value during the period of review (POR) December 13, 2019, through May 31, 2021. Additionally, Commerce has preliminarily assigned Antique Group an antidumping duty margin based on the application of adverse facts available. Finally, we are also rescinding this review with respect to two companies. Interested parties are invited to comment on these preliminary results.

DATES: Applicable July 8, 2022.

FOR FURTHER INFORMATION CONTACT: Kyle Clahane or Charles Doss, AD/CVD Operations, Office III, Enforcement and Compliance, International Trade Administration, U.S. Department of Commerce, 1401 Constitution Avenue NW, Washington, DC 20230; telephone: (202) 482-5449 or (202) 482-4474, respectively.

SUPPLEMENTARY INFORMATION:

Background

On June 22, 2020, Commerce published the antidumping duty order on certain quartz surface products (QSP) from India in the Federal Register.¹ On August 3, 2021, pursuant to section 751(a)(1) of the Tariff Act of 1930, as amended (the Act), Commerce initiated an administrative review of the Order.² On February 4, 2022, we extended the deadline for the preliminary results to June 30, 2022.³

¹ See Certain Quartz Surface Products from India and Turkey: Antidumping Duty Orders, 85 FR 37422 (June 22, 2020) (Order).

² See Initiation of Antidumping Duty and Countervailing Duty Administrative Reviews, 86 FR 41821 (August 3, 2021) (Initiation Notice).

³ See Memorandum, “Extension of Time Limit for the Preliminary Results of the 2019-2021 Antidumping Duty Administrative Review,” dated February 4, 2022.

Commerce initiated this administrative review covering 57 individually named companies.⁴ On September 28, 2021, we limited the number of respondents selected for individual examination in this administrative review to PESL and Antique Group.⁵ We did not select the remaining companies for individual examination, and these companies remain subject to this administrative review.

⁴ See Initiation Notice.

⁵ See Memorandum, “Respondent Selection,” dated September 28, 2021. In the underlying antidumping investigation, Commerce found Antique Marbonite Private Limited, India (Antique Marbonite) and its affiliates Shivam Enterprises (Shivam) and Prism Johnson Limited (Prism Johnson) to be a single entity (collectively, Antique Group). See also Certain Quartz Surface Products from India: Final Determination of Sales at Less Than Fair Value and Final Negative Determination of Critical Circumstances, 85 FR 25391 (May 1, 2020). Because there is no information on the record of this administrative review that would lead us to revisit this determination, we are continuing to treat these companies as part of a single entity for the purposes of this administrative review, in accordance with section 771(33)(E) and (F) of the Act, and 19 CFR 351.401(f).

For a complete description of the events that followed the initiation of this administrative review, see the Preliminary Decision Memorandum.⁶ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results and Partial Rescission of the Administrative Review of the Antidumping Duty Order on Certain Quartz Surface Products from India; 2019-2021,” dated concurrently with, and hereby adopted by, this notice (Preliminary Decision Memorandum).

Scope of the Order

The products covered by the Order are QSP from India. For a complete description of the scope, see the Preliminary Decision Memorandum.

Partial Rescission of Review

Pursuant to 19 CFR 351.213(d)(1), Commerce will rescind an administrative review, in whole or in part, if a party who requested the review withdraws the request within 90 days of the date of publication of notice of initiation of the requested review. On October 29, 2021, and November 1, 2021, M S International, Inc. (MSI) and certain exporters and/or producers of QSP from India (Indian Applicants) timely withdrew their respective requests for an administrative review of Argil Ceramics. On October 29, 2021, MSI, Arizona Tile, LLC, and Indian Applicants timely withdrew their respective requests for an administrative review of Global Stones Private Limited. No other party requested a review of these companies. Accordingly, we are rescinding this review, in part, with respect to Argil Ceramics and Global Stones Private Limited, pursuant to 19 CFR 351.213(d)(1) and (4).

Methodology

Commerce is conducting this review in accordance with section 751(a)(2) of the Act. Export price was calculated in accordance with section 772 of the Act. Normal value was calculated in accordance with section 773 of the Act. For a full description of the methodology underlying these preliminary results, see the Preliminary Decision Memorandum. A list of topics discussed in the Preliminary Decision Memorandum is included as Appendix I to this notice.

Application of Facts Available with Adverse Inferences

Pursuant to section 776(a) of the Act, Commerce is preliminarily relying upon facts otherwise available to determine a weighted-average dumping margin for Antique Group in this review. Commerce preliminarily finds that Antique Group withheld information requested by Commerce, warranting a determination on the basis of the facts available under section 776(a) of the Act. Further, Commerce preliminarily determines that Antique Group failed to cooperate to the best of its ability, and thus, Commerce is applying facts available with adverse inferences (AFA) to Antique Group, in accordance with section 776(b) of the Act. For a full description of the methodology underlying our conclusions regarding the application of AFA, see the Preliminary Decision Memorandum.

Rate for Non-Selected Companies

The statute and Commerce's regulations do not identify the dumping margin to apply to respondents not selected for individual examination when Commerce limits its examination in an administrative review pursuant to section 777A(c)(2) of the Act. Generally, Commerce looks to section 735(c)(5) of the Act, which provides instructions for calculating the all-others rate in an investigation, for guidance when determining the dumping margin for respondents that are not individually examined in an administrative review. Section 735(c)(5)(A) of the Act states that the all-others rate should be calculated by averaging the weighted-average dumping margins for individually-examined respondents, excluding dumping margins that are zero, de minimis, or based entirely on facts available. Where the dumping margins for individually examined respondents are all zero, de minimis, or based entirely on facts available, section 735(c)(5)(B) of the Act provides that Commerce may use “any reasonable method to establish the estimated all-others rate for exporters and producers not individually investigated, including averaging the estimated weighted-average dumping margins determined for the exporters and producers individually investigated.” We have preliminarily calculated a zero percent dumping margin for PESL, and we have preliminarily assigned Antique Group a dumping margin of 323.12 percent based entirely on facts available with an adverse inference. Therefore, in accordance with section 735(c)(5)(B) of the Act, we are preliminarily applying to the 51 companies not selected for individual examination a rate of 161.56, which is an average of the zero percent rate calculated for PESL and the 323.12 percent AFA rate assigned to Antique Group. These 51 exporters are listed in Appendix II. For additional discussion, see the Preliminary Decision Memorandum.

Preliminary Results of the Review

Commerce preliminarily determines the following weighted-average dumping margins exist for the POR:

Producer/exporter | Weighted- average dumping margin (percent)
Pokarna Engineered Stone Limited | 0.00
Antique Marbonite Private Limited, India/Shivam Enterprises (Shivam)/Prism Johnson Limited (Prism Johnson) | 323.12
Non-Selected Companies | 161.56

Disclosure and Public Comment

Commerce intends to disclose the calculations performed in connection with these preliminary results to interested parties within five days after the date of publication of this notice.⁷ Interested parties may submit case briefs no later than 30 days after the date of publication of this notice.⁸ Rebuttal briefs, limited to issues raised in the case briefs, may be filed no later than seven days after the time limit for filing case briefs.⁹ Parties who submit case briefs or rebuttal briefs in this proceeding are encouraged to submit with each argument: (1) a statement of the issue; (2) a brief summary of the argument; and (3) a table of authorities.¹⁰ Executive summaries should be limited to five pages total, including footnotes. Case and rebuttal briefs should be filed using ACCESS ¹¹ and must be served on interested parties.¹² Note that Commerce has temporarily modified certain of its requirements for serving documents containing business proprietary information, until further notice.¹³

⁷ See 19 CFR 351.224(b).

⁸ See 19 CFR 351.309(c)(1)(ii).

⁹ See 19 CFR 351.309(d)(1).

¹⁰ See 19 CFR 351.309(c)(2) and (d)(2) and 19 CFR 351.303 (for general filing requirements).

¹¹ See 19 CFR 351.303.

¹² See 19 CFR 351.303(f).

¹³ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically filed document must be received successfully in its entirety by Commerce's electronic records system, ACCESS, by 5:00 p.m. Eastern Time within 30 days after the date of publication of this notice. Requests should contain: (1) the party's name, address and telephone number; (2) the number of participants; and (3) a list of issues parties intend to discuss. Issues raised in the hearing will be limited to those raised in the respective case and rebuttal briefs.¹⁴ If a request for a hearing is made, Commerce intends to hold the hearing at a time and date to be determined. Parties should confirm by telephone the date, time, and location of the hearing two days before the scheduled date.

¹⁴ See 19 CFR 351.310(c).

Unless otherwise extended, Commerce intends to issue the final results of this administrative review, which will include the results of its analysis of issues raised in any briefs, no later than 120 days after the date of publication of these preliminary results of review, pursuant to section 751(a)(3)(A) of the Act.

Assessment Rate

Upon issuance of the final results, Commerce shall determine, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

If the weighted-average dumping margin for PESL is not zero or de minimis (i.e., less than 0.5 percent) in the final results of this review, we will calculate importer-specific ad valorem assessment rates for the merchandise based on the ratio of the total amount of dumping calculated for the examined sales made during the POR to each importer and the total entered value of those same sales, in accordance with 19 CFR 351.212(b)(1). Where an importer-specific ad valorem assessment rate is zero or de minimis in the final results of review, we will instruct CBP to liquidate the appropriate entries without regard to antidumping duties, in accordance with 19 CFR 351.106(c)(2). If a respondent's weighted-average dumping margin is zero or de minimis in the final results of review, we will instruct CBP not to assess duties on any of its entries in accordance with the Final Modification for Reviews, i.e., “{w}here the weighted-average margin of dumping for the exporter is determined to be zero or de minimis, no antidumping duties will be assessed.” ¹⁵ For entries of subject merchandise during the POR produced by PESL for which the producer did not know its merchandise was destined for the United States, we will instruct CBP to liquidate unreviewed entries at the all-others rate if there is no rate for the intermediate company (or companies) involved in the transaction.¹⁶

¹⁵ See Antidumping Proceedings: Calculation of the Weighted-Average Dumping Margin and Assessment Rate in Certain Antidumping Proceedings; Final Modification, 77 FR 8101, 8102 (February 14, 2012) (Final Modification for Reviews).

¹⁶ See Antidumping and Countervailing Duty Proceedings: Assessment of Antidumping Duties, 68 FR 23954 (May 6, 2003).

Should we continue to apply facts available with an adverse inference to Antique Group in the final results, we will instruct CBP to apply an assessment rate equal to the dumping margin of 323.12 percent, as indicated above, to all entries produced and/or exported by Antique Group. The assessment rate for antidumping duties for each of the companies not selected for individual examination will be equal to the weighted-average dumping margin identified in the final results of review.

Cash Deposit Requirements

The following cash deposit requirements will be effective upon publication of the final results of this administrative review for all shipments of the subject merchandise entered, or withdrawn from warehouse, for consumption on or after the publication date of the final results of this administrative review, as provided by section 751(a)(2)(C) of the Act: (1) the cash deposit rate for each company listed above will be that established in the final results of this administrative review, except if the rate is less than 0.50 percent, and therefore, de minimis within the meaning of 19 CFR 351.106(c)(1), in which case the cash deposit rate will be zero; (2) for previously reviewed or investigated companies not listed above, the cash deposit rate will continue to be the company-specific rate published for the most recently completed segment of this proceeding in which the company participated; (3) if the exporter is not a firm covered in this review, a prior review, or in the investigation but the producer is, the cash deposit rate will be the rate established for the most recently completed segment of this proceeding for the producer of the merchandise; and (4) the cash deposit rate for all other producers or exporters will continue to be the all-others rate of 1.02 percent, the rate established in the investigation of this proceeding, as adjusted for subsidy offsets.¹⁷ These cash deposit requirements, when imposed, shall remain in effect until further notice.

¹⁷ See Order, 85 FR at 37423.

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification to Interested Parties

We are issuing and publishing these preliminary results in accordance with sections 751(a)(1) and 777(i)(1) of the Act.

Dated: June 30, 2022.
Ryan Majerus,
Deputy Assistant Secretary for Policy and Negotiations.

Appendix I

List of Topics Discussed in the Preliminary Decision Memorandum

I. Summary

II. Background

III. Scope of the Order

IV. Partial Rescission of Review

V. Application of Facts Available and Use of Adverse Inferences

VI. Margin for Companies Not Selected for Individual Examination

VII. Discussion of the Methodology

VIII. Currency Conversion

IX. Recommendation

Appendix II

List of Companies Not Selected for Individual Examination

Alicante Surfaces Pvt., Ltd.

Antique Granito Shareholders Trust

Argil Ceramic Private Limited

ARO Granite Industries Limited

Asian Granito India Ltd

Baba Super Minerals Pvt. Ltd.

Camrola Quartz Limited

Chaitanya International Minerals LLP

Chariot International Pvt. Ltd.

Colors Of Rainbow

Creative Quartz LLP

Cuarzo

Divyashakti Granites Limited

Esprit Stones Pvt., Ltd.

Globalfair Technologies Pvt.

Glowstone Industries Private Limited

Gupta Marbles

Gyan Chand Lodha

Hi Elite Quartz LLP

Hilltop Stones Pvt., Ltd.

Inani Marbles and Industries Ltd.

International Stones India Private Limited

Jennex Granite Industries

Jessie Kan Granite Inc.

Keros Stone LLP

M.B. Granites Private Ltd.

Mahi Granites Private Limited.

Malbros Marbles & Granites Industries

Marudhar Rocks International Pvt. Ltd.

Mountmine Imp. & Exp. Pvt., Ltd.

P.M. Quartz Surfaces Pvt., Ltd.

Pacific Industries Limited

Pacific Quartz Surfaces LLP

Pangaea Stone International Private Ltd.

Paradigm Granite Pvt., Ltd.

Paradigm Stone India Private Limited

Pelican Quartz Stone

Quartzkraft LLP

Rocks Forever

Rose Marbles Ltd.

Safayar Ceramics Private Ltd.

Satya Exports

Southern Rocks and Minerals Private Limited

Stone Imp. & Exp. (India) Pvt., Ltd.

Stoneby India LLP

Sunex Stones Private Ltd.

Tab India Granites Pvt., Ltd.

Ultima International

Vishwas Ceramic

Vishwas Exp.

Yash Gems

[FR Doc. 2022-14565 Filed 7-7-22; 8:45 am]

BILLING CODE 3510-DS-P